ENVIRONMENTAL PROTECTION AGENCY

40 CFR Parts 52 and 81

[WA-71-7146a; FRL-6879-6]

Approval and Promulgation of Implementation Plans and Designation of Areas for Air Quality Planning Purposes: Washington

AGENCY: Environmental Protection Agency.

ACTION: Direct final rule.

SUMMARY: Environmental Protection Agency (EPA) approves the Thurston County, Washington PM-10 area maintenance plan and redesignation request from nonattainment to attainment as revisions to the Washington State Implementation Plan. PM-10 air pollution is suspended particulate matter with a diameter less than or equal to a nominal ten micrometers.

DATES: This direct final rule is effective on December 4, 2000 without further notice, unless EPA receives adverse comment by November 3, 2000. If adverse comment is received, EPA will publish a timely withdrawal of the direct final rule in the Federal Register and inform the public that the rule will not take effect.

ADDRESSES: Written comments should be addressed to: Debra Suzuki, EPA, Office of Air Quality (OAQ-107), 1200 Sixth Avenue, Seattle, Washington 98101.

Copies of the State's request and other information supporting this action are available for inspection during normal business hours at the following locations: EPA, Office of Air Quality (OAQ-107), 1200 Sixth Avenue, Seattle, Washington 98101, and State of Washington Department of Ecology, 300 Desmond Drive, PO Box 47600, Olympia, Washington 98504-7600.

FOR FURTHER INFORMATION CONTACT: Scott Downey, Office of Air Quality (OAQ-107), EPA, Seattle, Washington, (206) 553-0682.

SUPPLEMENTARY INFORMATION:

Table of Contents

I. Summary of Action

II. Supplementary Information

1. What is the purpose of this rulemaking?

2. What is a State Implementation Plan?

3. What National Ambient Air Quality Standards are considered in today's rulemaking?

4. What are the characteristics of the Thurston County airshed?

5. What is the background information for this action?

6. What criteria did EPA use to review the Thurston County PM-10 redesignation request and maintenance plan?

7. How does the State show that the Thurston County area has attained the PM-10 National Ambient Air Quality Standard?

Table 1: Mt View PM-10 Data (24 hr. average μg/m³)

8. Does the Thurston County nonattainment area have a fully approved attainment plan SIP?

9. Are the improvements in air quality permanent and enforceable?

10. Has the State met all the section 110 and part D planning requirements applicable to this nonattainment area?

11. How does the State meet section 110 requirements?

12. How does the State meet part D requirements?

13. How does the State meet the section 172(c) plan provisions requirements?

14. How does the State meet subpart 4 requirements?

15. Has the State submitted a fully approvable maintenance plan for the Thurston County PM-10 area?

16. How has the State met the attainment inventory requirement?

17. How does the State demonstrate maintenance of the PM-10 standard in the future?

18. How will the State monitor air quality to verify continued attainment?

19. What contingency plan will the State rely upon to correct any future violation of the NAAQS?

20. How does this action affect Transportation Conformity?

21. What is the motor vehicle emissions budget for Thurston County?

22. In summary, what conclusion has EPA reached and what is it doing in this action?

III. Final Action

IV. Administrative Review

I. Summary of Action

Environmental Protection Agency (EPA) approves the Thurston County PM-10 area maintenance plan and redesignation request from nonattainment to attainment as revisions to the Washington State Implementation Plan.

EPA is publishing this rule without prior proposal because the Agency views this as a noncontroversial submittal and anticipates no adverse comments. However, in the proposed rules section of this Federal Register publication, EPA is publishing a separate document that will serve as the proposal to approve the SIP revision should adverse comments be filed. This rule will be effective December 4, 2000, without further notice unless the Agency receives adverse comments by November 3, 2000.

If the EPA receives adverse comments, then EPA will publish a Federal Register document withdrawing the final rule and informing the public that the rule will not take effect. All public comments received will then be addressed in a subsequent final rule based on the proposed rule. The EPA will not institute a second comment period. Parties interested in commenting should do so at this time. If no such comments are received, the public is advised that this rule will be effective on December 4, 2000, and no further action will be taken on the proposed rule.

II. Supplementary Information

1. What Is the Purpose of This Rulemaking?

Today's rulemaking announces two actions being taken by EPA related to air quality in the State of Washington. These actions are taken at the request of the Governor of Washington in response to Clean Air Act (Act) requirements and EPA regulations.

First, EPA approves the PM-10 maintenance plan for the Thurston County nonattainment area and incorporates this plan into the Washington State Implementation Plan (SIP).

Second, EPA redesignates Thurston County from nonattainment to attainment for PM-10. This redesignation is based on validated monitoring data and projections of ambient concentrations made in the maintenance plan's demonstration. EPA believes the area will continue to meet the National Ambient Air Quality Standards for PM-10 for at least ten years beyond this redesignation, as required by the Act.

2. What Is a State Implementation Plan?

The Clean Air Act requires States to keep ambient concentrations of specific air pollutants below certain thresholds to provide an adequate margin of safety for public health and welfare. These maximum concentrations are established by EPA and known as the National Ambient Air Quality Standards, or NAAQS.

The State's plan for attaining the NAAQS are outlined in its State Implementation Plan, or SIP. The SIP is a planning document that, when implemented, is designed to ensure the attainment of the NAAQS. Each State currently has a SIP in place, and the Act requires that SIP revisions be made periodically.

SIPs include the following: (1) Inventories of emissions from point, area, and mobile sources; (2) relevant statutes and regulations adopted by the state legislature and executive agencies; (3) air quality analyses that include demonstrations that adequate controls are in place to ensure the area will attain the NAAQS; and (4) contingency measures to be implemented if an area fails to attain or make reasonable progress toward attainment by the required date.

The SIP must be presented to the public in a hearing and approved by the Governor of the State or appointed designee prior to submittal to EPA. The approved SIP serves as the State's commitment to actions that will reduce or eliminate air quality problems. Once approved by EPA, the SIP becomes part of the Code of Federal Regulations and is Federally enforceable. Any subsequent changes must go through the formal SIP revision process specified in the Act.

Washington submitted their original SIP on January 28, 1972 and it was subsequently approved by EPA. The Thurston County PM-10 maintenance plan and redesignation request was submitted as a revision to the SIP on August 16, 1999. This revision is the subject of today's action.

3. What National Ambient Air Quality Standards Are Considered in Today's Rulemaking?

As stated previously, National Ambient Air Quality Standards (NAAQS) are safety thresholds for certain ambient air pollutants set by EPA to protect public health and welfare. Suspended particulate matter is one of these criteria air pollutants regulated by EPA by way of these health-based national standards.

Particulate matter causes adverse health effects by penetrating deep in the lung, aggravating the cardiopulmonary system. Children, the elderly, and people with asthma and heart conditions are the most vulnerable.

On July 1, 1987 (52 FR 24634), the Environmental Protection Agency (EPA) revised the National Ambient Air Quality Standards (NAAQS) for particulate matter with a new indicator that includes only those particles with an aerodynamic diameter less than or equal to a nominal 10 micrometers (PM-10). (See 40 CFR 50.6).

The 24-hour primary PM-10 standard is 150 micrograms per cubic meter (μg/m\3\), with no more than one expected exceedance per year. The annual primary PM-10 standard is 50 μg/m³ expected annual arithmetic mean. The secondary PM-10 standards are identical to the primary standards.

4. What are the characteristics of the Thurston County airshed?

The Thurston County PM-10 area consists of the adjoining cities of Olympia, Lacey, and Tumwater, Washington. Geographically, the area is characterized by low rolling terrain with hills rising higher toward its southern and western boundaries. Land use is primarily residential and commercial with several office parks and very little industry. The surrounding hills trap pollutants during stable meteorological conditions that occur frequently in the late fall and winter.

Residential wood combustion is the largest source of PM-10 in the nonattainment area. Re-suspended road dust is also a significant, but smaller, source. All other sources are considered insignificant. The Thurston County PM-10 attainment plan, approved in 1993, identifies a 24-hour concentration of 286 μg/m³ as representative of worst case PM-10 conditions before the use of any emission controls. For a discussion of the initial Thurston County PM-10 SIP see 58 FR 40056 (July 27, 1993). Because the health based standard is set at 150 μg/m³, this clearly shows that Thurston County experienced severely impaired air quality prior to implementing the control strategy in the attainment plan. As presented in the maintenance demonstration, with implementation of the control strategy, modeling predicts maximum concentrations that are below the 24-hour NAAQS of 150 μg/m³ through the year 2010.

5. What Is the Background Information for This Action?

On August 7, 1987 (52 FR 29383), EPA identified the Thurston County, Washington area as a PM-10 “Group I” area of concern, i.e., an area with a 95% or greater likelihood of violating the PM-10 NAAQS and requiring substantial SIP revisions. Subsequent monitoring data and emission inventory estimates confirmed that the area experienced episodes where the 24-hour PM-10 NAAQS was exceeded, violating the health-based standard. The area was subsequently designated as a moderate PM-10 nonattainment area upon enactment of the Clean Air Act Amendments of 1990 (November 15, 1990).

Title I, section 107(d)(3)(D) of the Act as explained in detail in the General Preamble to Title I (57 FR 13498 (April 16, 1992) hereafter referred to as the General Preamble), allow the Governor of a State to request the redesignation of an area from nonattainment to attainment. Under a cover letter dated August 16, 1999, the State submitted a maintenance plan and redesignation request for the Thurston County PM-10 nonattainment area.

6. What Criteria Did EPA Use to Review of the Thurston County PM-10 Redesignation Request and Maintenance Plan?

The criteria used to review the redesignation request are derived from the Act, General Preamble, and the following policy and guidance memorandum from John Calcagni, September 4, 1992, Procedures for Processing Requests to Redesignate Areas to Attainment. Section 107(d)(3)(E) of the Act states that an area can be redesignated to attainment if the following conditions are met:

1. EPA has determined that the NAAQS have been attained.

2. The applicable implementation plan has been fully approved by EPA under section 110(k).

3. EPA has determined that the improvement in air quality is due to permanent and enforceable reductions in emissions.

4. The State has met all applicable requirements for the area under section 110 and part D.

5. EPA has fully approved a maintenance plan, including a contingency plan, for the area under section 175A.

7. How Does the State Show That the Thurston County Area Has Attained the PM-10 National Ambient Air Quality Standard?

Demonstrating that an area has attained the PM-10 NAAQS involves submittal of ambient air quality data from an ambient air monitoring network representing peak PM-10 concentrations, which is recorded in the Aerometric Information Retrieval System (AIRS). The area must show that the average number of expected exceedances per year is less than or equal to one. (40 CFR 50.6) To make this determination, three consecutive years of complete ambient air quality, collected in accordance with EPA methodologies, must be used.

There is one PM-10 ambient air quality monitoring site in Thurston County. The Olympic Air Pollution Control Agency (OAPCA) has operated this monitor, located at the Mt. View Elementary School, since November 1985.

The Washington State Department of Ecology submitted ambient air quality data and supporting documentation from this monitoring site for the 1985-1995 period demonstrating that the area has attained the PM-10 NAAQS. Also, supplemental data was submitted under separate cover by the Olympic Air Pollution Control Authority for 1996-1999. This air quality data was quality assured and entered into AIRS. These data are summarized in the following table:

Table 1: Mt. View PM-10 Data (24 hr. Average μg/m³)
Year | Maximum | 2nd highest
1985 | 254 | 242
1986 | 193 | 179
1987 | 177 | 130
1988 | 169 | 120
1989 | 128 | 118
1990 | 141 | 86
1991 | 106 | 99
1992 | 102 | 78
1993 | 79 | 78
1994 | 77 | 63
1995 | 76 | 65
1996 | 55 | 53
1997 | 66 | 58
1998 | 54 | 46
1999 | 41 | 35

As shown above, an exceedance of the 24-hour NAAQS was not recorded at the Mt. View Elementary School site between 1989 and 1999. Also, the State has adequately demonstrated attainment of the 24-hour PM-10 NAAQS through the dispersion modeling and the attainment of the annual PM-10 NAAQS through emissions inventory comparison (this is discussed in greater detail later in this action). Thus, the area is considered in attainment of the PM-10 NAAQS, easily meeting the requirement of three consecutive years of clean data.

8. Does the Thurston County Nonattainment Area Have a Fully Approved Attainment Plan SIP?

Yes. Those States containing initial moderate PM-10 nonattainment areas were required to submit a SIP by November 15, 1991, which implemented reasonably available control measures (RACM) by December 10, 1993, and demonstrated attainment of the PM-10 NAAQS by December 31, 1994. The SIP for the area must be fully approved under section 110(k) of the Act, and must satisfy all requirements that apply to the area.

On July 27, 1993, (58 FR 40056), EPA approved the Thurston County PM-10 nonattainment area SIP originally submitted by the State on February 17, 1989, and supplemented on November 13, 1991.

9. Are the Improvements in Air Quality Permanent and Enforceable?

Yes. The State must be able to reasonably attribute the improvement in air quality to permanent and enforceable emission reductions. In making this showing, the State must demonstrate that air quality improvements are the result of actual enforceable emission reductions. This estimate should consider emission rates, production capacities, and other related information. The analysis should assume that sources are operating at permitted levels (or historic peak levels) unless evidence is presented that such an assumption is unrealistic.

The attainment plan and the maintenance plan identify residential wood combustion as the primary source of PM-10 emissions in the area, citing a 1986 aerosol characterization study. Chemical mass balance analysis of the filters collected at the Mt. View Elementary School show that woodsmoke contributes 80-95% of ambient PM-10 concentrations on the high pollution days analyzed. The State concluded that the most important control measures for achieving attainment are those that reduce emissions from residential wood combustion.

In response, Thurston County has implemented a residential wood burning curtailment program, a public education program, emission standards for new woodstoves, and restrictions on certain fuels since the submittal of the 1989 attainment plan SIP. The attainment demonstration (discussed in further detail below) clearly shows that these controls are responsible for the attainment of the NAAQS. The continued implementation of these and other controls in the maintenance plan will assure continued attainment of the NAAQS.

The State shows that the reduction of 136 μg/m³ needed for attainment, or 6841 kg PM-10 emissions per day, is a result of implementing the federally enforceable control measures (see the Technical Support Document accompanying this Federal Register document for additional description of the control measures). Thus, the emission reductions responsible for attainment of the NAAQS are permanent and enforceable.

10. Has the State met all the Section 110 and Part D Planning Requirements Applicable to This Nonattainment Area?

Yes. The September 1992 Calcagni memorandum explains that for redesignation purposes a State must meet all of the applicable section 110 and part D planning requirements. Thus, EPA interprets the Act to mean that before EPA may approve a redesignation request, the applicable programs under section 110 and part D, that were due prior to the submittal of a redesignation request, must be adopted by the State and approved by EPA into the SIP. How the State has met these requirements is discussed in detail below.

11. How Does the State Meet Section 110 Requirements?

Section 110(a)(2) of the Act contains general requirements for nonattainment plans. These requirements include, but are not limited to, submittal of a SIP that has been adopted by the State after reasonable notice and public hearing; provisions for establishment and operation of appropriate apparatus, methods, systems and procedures necessary to monitor ambient air quality; implementation of a permit program; provisions for part C—Prevention of Significant Deterioration (PSD) and part D—New Source Review (NSR) permit programs; criteria for stationary source emission control measures, monitoring, and reporting; provisions for modeling; and provisions for public and local agency participation. See the General Preamble for further explanation of these requirements.

For purposes of redesignation, the Washington SIP was reviewed to ensure that all requirements under the Act were satisfied. 40 CFR 52.2473, further evidences that the Washington SIP was approved under section 110 of the Act and found that the SIP satisfied all part D, Title I requirements (46 FR 45607, September 14, 1981).

12. How Does the State Meet Part D Requirements?

Part D consists of general requirements applicable to all areas which are designated nonattainment based on a violation of the NAAQS. The general requirements are followed by a series of subparts specific to each pollutant. All PM-10 nonattainment areas must meet the applicable general provisions of subpart 1 and the specific PM-10 provisions in subpart 4, “Additional Provisions for Particulate Matter Nonattainment Areas.” The following paragraphs discuss these requirements as they apply to the Thurston County area.

13. How Does the State Meet the Section 172(c) Plan Provisions Requirements?

Section 172(c) contains general requirements for nonattainment plans. A thorough discussion of these requirements may be found in the General Preamble. EPA anticipates that areas will already have met most or all of these requirements to the extent that they are not superseded by more specific part D requirements. The requirements for reasonable further progress, identification of certain emissions increases, and other measures needed for attainment will not apply to redesignations because they only have meaning for areas not attaining the standard. The requirements for an emission inventory will be satisfied by the inventory requirements of the maintenance plan. The requirements of the part D New Source Review (NSR) program will be replaced by the part C Prevention of Significant Deterioration (PSD) program for PM-10 upon the effective date of this redesignation action. The Federal PSD regulations found in 40 CFR 52.21 are the PSD rules in effect in Washington.

14. How Does the State Meet Subpart 4 Requirements?

The Thurston County area is classified as a moderate nonattainment area. Therefore, part D, subpart 4, section 189(a) requirements apply. The requirements which came due prior to the submission of the request to redesignate the Thurston County area must be fully approved into the SIP before redesignating the area to attainment. These requirements are discussed below:

(a) Provisions to assure that RACM shall be implemented by December 10, 1993;

(b) Either a demonstration that the plan will provide for attainment as expeditiously as practicable but no later than December 31, 1994, or a demonstration that attainment by that date is impracticable;

(c) Quantitative milestones which are to be achieved every 3 years and which demonstrate reasonable further progress (RFP) toward attainment by December 31, 1994; and

(d) Provisions to assure that the control requirements applicable to major stationary sources of PM-10 also apply to major stationary sources of PM-10 precursors except where the Administrator determines that such sources do not contribute significantly to PM-10 levels which exceed the NAAQS in the area.

As previously stated, EPA approved the Thurston County PM-10 SIP, which met the initial requirements of the 1990 amendments for moderate PM-10 nonattainment areas, on July 27, 1993, (58 FR 40056). Other provisions were due at a later date.

States with initial PM-10 nonattainment areas were required to submit a permit program for the construction and operation of new and modified major stationary sources of PM-10 by June 30, 1992. States also were to submit contingency measures by November 15, 1993, which become effective without further action by the State or EPA, upon a determination by EPA that the area has failed to achieve RFP or to attain the PM-10 NAAQS by the applicable statutory deadline. See sections 172(c)(9) and 189(a) and 57 FR 13543-13544.

The State has presented an adequate demonstration that it has met the requirements applicable to the area under section 110 and part D. EPA approved Washington State's NSR regulations effective June 2, 1995. EPA approved, as part of the Thurston County PM-10 attainment plan, a contingency measure that would ban the use of uncertified woodstoves in the Thurston county nonattainment area if the area failed to attain or maintain the standard. State law allowed this regulation to take effect on or after July 1, 1995.

15. Has the State Submitted a Fully Approvable Maintenance Plan for The Thurston County PM-10 Area?

Yes. Section 107(d)(3)(E) of the Act stipulates that for an area to be redesignated, EPA must fully approve a maintenance plan which meets the requirements of section 175A. Section 175A defines the general framework of a maintenance plan, which must provide for maintenance of the relevant NAAQS in the area for at least 10 years after redesignation. The following is a list of core provisions required in an approvable maintenance plan.

(a) Plan revision: the maintenance plan must provide for the maintenance of the NAAQS for ten years beyond redesignation.

(b) Subsequent plan revisions: Eight years after redesignation, the maintenance plan must provide for additional revisions as needed to maintain the standard for an additional ten years.

(c) Nonattainment requirements applicable pending plan approval: all provisions and controls in place as part of the nonattainment plan must be implemented until final redesignation to attainment.

(d) Contingency provisions: the maintenance plan must include contingency control measures which will go into effect automatically to correct any future violation of the NAAQS. These provisions must include a requirement that the State will implement all measures contained in the nonattainment area SIP.

16. How Has the State Met the Attainment Inventory Requirement?

The State should develop an attainment emissions inventory to identify the level of emissions in the area which is sufficient to attain the NAAQS. Where the State has made an adequate demonstration that air quality has improved as a result of the SIP, the attainment inventory will generally be the actual inventory at the time the area attained the standard. This inventory should be consistent with EPA's most recent guidance on emission inventories for nonattainment areas available at the time and should include the emissions during the time period associated with the monitoring data showing attainment.

For the Thurston County maintenance plan, updated, gridded based year (1995) and future year (2010) emission inventories were compiled to show emission levels consistent with attainment and continued maintenance of the PM-10 standard. The previous inventories for the area prepared for a base year of 1985 consisted primarily of emissions from woodsmoke sources. Updated emission factors and sources of activity data were used to develop the revised PM-10 emission inventories.

The inventories were gridded and temporally allocated for use in air quality modeling. This is discussed in further detail below.

The State has adequately developed an attainment emissions inventory for 1995 that identifies the levels of emissions of PM-10 in the area that are consistent with attainment of the NAAQS.

17. How Does the State Demonstrate Maintenance of the PM-10 Standard in the Future?

A State may generally demonstrate maintenance of the NAAQS by either showing that future emissions of a pollutant or its precursors will not exceed the level of the attainment inventory, or by modeling to show that the future mix of sources and emission rates will not cause a violation of the NAAQS. Under the Act, PM-10 areas were required to submit modeled attainment demonstrations to show that proposed reductions in emissions will be sufficient to attain the applicable NAAQS. For these areas, the maintenance demonstration should be based upon the same level of modeling.

The State has adequately demonstrated attainment of the 24-hour PM-10 NAAQS through the dispersion modeling and the annual PM-10 NAAQS through emissions inventory comparison (i.e., rollback). The dispersion modeling analysis was based upon the guidelines established by EPA for the regulatory application of the urban airshed model for area wide sources.

Inputs for this model were developed using available meteorological, emissions, air quality, and land use data. The domain modeled was 30 x 27 grids, 1 km each. These parameters were chosen based on future and known emission sources, location of meteorological sites, and the wind direction during typical PM-10 episodes. Air quality inputs were based on hourly tapered element oscillating microbalance (TEOM) data collected at the Mt. View Elementary School site and assumed to represent uniform concentrations across the domain. The model used was a base case scenario that took place on January 2-3, 1995. Day specific emission rates for point sources, activity patterns, and meteorological data were used. The emission reduction benefits from the burn ban implemented on that day were also considered.

After comparing the concentrations generated by the model for January 2-3, 1995 with the actual monitored data collected on those days, the State concluded that the model adequately characterized the PM-10 episode. Based on this success, the model was used to generate future year concentrations.

The 2010 model was run using the projected inventory and the inputs from the 1995 run. Higher concentrations were simulated for 2010 than for 1995, but the maximum concentration in any one grid, 149.9 μg/m³, does not exceed the 24-hour standard. (Note: despite the fact that this maximum value is very near the standard of 150.0 μg/m³, EPA is confident that the area will maintain the standard based on the area's history and the overall strength of the maintenance plan.)

When the model was run without the benefits of the burn ban, the grid cell over the urban core exceeded the standard with a concentration of 177.7 μg/m³. Thus, the model demonstrates that the continued implementation of the control measures in the attainment plan are needed to demonstrate maintenance of the 24-hour standard.

The emissions inventory comparison between attainment and forecast years demonstrated continued attainment of the annual PM-10 standard. The projected annual average was 25.6 μg/m³ in 2010, well within the standard of 50.0 μg/m³. This concentration was based on maximum allowable point source emissions and is therefore somewhat conservative.

The State has adequately demonstrated attainment of the 24-hour PM-10 NAAQS through the dispersion modeling and the annual PM-10 NAAQS through emissions inventory comparison (i.e., rollback). The dispersion modeling analysis was based upon the guidelines established by EPA for the regulatory application of the urban airshed model for area wide sources (EPA, 1991, 1992).

18. How Will the State Monitor Air Quality to Verify Continued Attainment?

Once an area has been redesignated, the State must continue to operate an appropriate air quality monitoring network, in accordance with 40 CFR part 58, to verify the attainment status of the area. The maintenance plan should contain provisions for continued operation of air quality monitors that will provide such verification. In its submittal, the State commits to continue to operate and maintain the network of PM-10 monitoring stations necessary to verify ongoing compliance with the PM-10 NAAQS.

19. What Contingency Plan Will the State Rely Upon To Correct any Future Violation of the NAAQS?

Section 175A of the Act also requires that a maintenance plan include contingency provisions, as necessary, to promptly address any violation of the NAAQS that occurs after redesignation. These contingency measures are distinguished from those generally required for nonattainment areas under section 172(c)(9) which are discussed above. However, if the contingency measures in a nonattainment SIP have not been implemented at the time the area is redesignated to attainment and the contingency measures included a requirement that they be implemented prior to redesignation, then they can be carried over into the area's maintenance plan.

The major contingency measure in the Thurston County PM-10 attainment plan, and carried forward in the maintenance plan, further reduced residential woodsmoke emissions. Under this measure, RCW 70.94.477(2), Olympic Air Pollution Control Authority can limit wood burning devices to fireplaces, certified woodstoves, and pellet stoves in a specific geographical area.

The State believes that additional contingency measures beyond tighter residential wood combustion regulations are not needed in the maintenance plan to assure prompt correction of a violation. However, the plan cites many additional options the State could use to control major sources of PM-10 if needed. These include additional wood seasoning rules, stove retrofits, weatherization, utility rate incentives, stove replacement, stove licensing, stove and fireplace ban, woodstove removal, voluntary curtailment, asphalt shoulders, street maintenance, sanding reduction, control of construction entrainment, new paving, and others. EPA finds the State plan includes adequate contingency measures in the maintenance plan to meet the requirement of 175A.

20. How Does This Action Affect Transportation Conformity?

Under section 176(c) of the Act, transportation plans, programs, and projects in nonattainment or maintenance areas that are funded or approved under 23 U.S.C. or the Federal Transit Act, must conform to the applicable SIPs. However, a motor vehicle emission budget was not included in the 1998 attainment plan because at the time of the attainment demonstration, it was believed that motor vehicle emissions were not a significant factor for attainment. In the maintenance plan, motor vehicle emissions are a much higher percentage of the total emission inventory. Therefore, it is more important to monitor growth of motor vehicle emissions in the air quality planning process. The maintenance plan includes a motor vehicle emissions budget which results in the need for conformity determinations for PM-10 on future Transportation Improvement Plans and Regional Transportation Plans.

21. What is the Motor Vehicle Emissions Budget for Thurston County?

Transportation conformity determinations must be consistent with the motor vehicle emissions budget of 776.36 tons of PM-10 per year. The mobile source emissions are a combination of vehicle exhaust, tire wear, and road dust.

22. In Summary, What Conclusion has EPA Reached and What is it Doing in This Action?

EPA has reviewed the maintenance plan as a revision to the Washington SIP and the adequacy of the State's request to redesignate the Thurston County PM-10 nonattainment area to attainment. EPA finds that the submittal sufficiently meets the requirements for redesignation requests. Therefore, the EPA approves Washington's redesignation request for the Thurston County PM-10 area and approves the maintenance plan as a revision to the Washington SIP.

III. Final Action

EPA approves the PM-10 maintenance plan for the Thurston County, Washington PM-10 nonattainment area and redesignates the area from nonattainment to attainment for PM-10.

Nothing in this action should be construed as permitting or allowing or establishing a precedent for any future request for revision to any SIP. Each request for revision to any SIP shall be considered separately in light of specific technical, economic, and environmental factors, and in relation to relevant statutory and regulatory requirements.

IV. Administrative Requirements

A. Executive Order 12866

The Office of Management and Budget (OMB) has exempted this regulatory action from Executive Order 12866, entitled “Regulatory Planning and Review.”

B. Executive Order 13045

Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

C. Executive Order 13084

Under Executive Order 13084, EPA may not issue a regulation that is not required by statute, that significantly affects or uniquely affects the communities of Indian tribal governments, and that imposes substantial direct compliance costs on those communities, unless the Federal government provides the funds necessary to pay the direct compliance costs incurred by the tribal governments, or EPA consults with those governments. If EPA complies by consulting, Executive Order 13084 requires EPA to provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected officials and other representatives of Indian tribal governments “to provide meaningful and timely input in the development of regulatory policies on matters that significantly or uniquely affect their communities.”

Today's rule does not significantly or uniquely affect the communities of Indian tribal governments. This action does not involve or impose any requirements that affect Indian Tribes. Accordingly, the requirements of section 3(b) of Executive Order 13084 do not apply to this rule.

D. Executive Order 13132

Federalism (64 FR 43255, August 10, 1999) revokes and replaces Executive Orders 12612 (Federalism) and 12875 (Enhancing the Intergovernmental Partnership). Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132, because it merely approves a state rule implementing a federal standard, and does not alter the relationship or the distribution of power and responsibilities established in the Clean Air Act. Thus, the requirements of section 6 of the Executive Order do not apply to this rule.

E. Regulatory Flexibility

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This rule will not have a significant impact on a substantial number of small entities because SIP approvals under section 110 and subchapter I, part D of the Clean Air Act do not create any new requirements but simply approve requirements that the State is already imposing. Additionally, redesignation of an area to attainment under section 107(d)(3)(E) of the CAA does not impose any new requirements on small entities. Redesignation is an action that affects the status of a geographical area and does not impose any regulatory requirements on sources. Therefore, I certify that this action will not have a significant economic impact on a substantial number of small entities. Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

F. Unfunded Mandates

Under section 202 of the Unfunded Mandates Reform Act of 1995 (“Unfunded Mandates Act”), signed into law on March 22, 1995, EPA must prepare a budgetary impact statement to accompany any proposed or final rule that includes a Federal mandate that may result in estimated costs to State, local, or tribal governments in the aggregate; or to the private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective December 4, 2000 unless EPA receives adverse written comments by November 3, 2000.

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the Clean Air Act, petitions for judicial review of this action must be filed in the United States Court of Appeals for the appropriate circuit by December 4, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Intergovernmental relations, Particulate matter, Reporting and recordkeeping requirements.

40 CFR Part 81

Environmental protection, Air pollution control, National parks, Wilderness areas.

Dated: September 12, 2000.
Michael F. Gearheard,
Acting Regional Administrator, Region 10.

Parts 52 and 81, chapter I, title 40 of the Code of Federal Regulations are amended as follows:

PART 52—[AMENDED]

1. The authority citation for part 52 continues to read as follows:

Authority: 42 U.S.C. 7401 et seq.

Subpart WW—Washington

2. Section 52.2470 is amended by adding paragraph (c)(80) to read as follows:

§ 52.2470 Identification of plan.

* * * * *

(c) * * *

(80) On August 16, 1999, the Washington State Department of Ecology submitted a maintenance plan and redesignation request for the Thurston County PM-10 nonattainment area (dated June 11, 1997). EPA approves the Thurston County, Washington PM-10 area maintenance plan and the redesignation to attainment.

PART 81—[AMENDED]

1. The authority citation for part 81 continues to read as follows:

Authority: 42 U.S.C. 7401 et seq.

§ 81.348 [Amended]

2. In § 81.348, the table entitled “Washington—PM-10” is amended by revising the entry for “Thurston County, Cities of Olympia, Tumwater, and Lacey” to read as follows:

* * * * *

Washington—PM-10
Designated area | Designation: Date | Designation: Type | Classification: Date | Classification: Type
* * * * * * *
Thurston County Cities of Olympia, Tumwater, and Lacey | December 4, 2000 | Attainment |  | ....................................
* * * * * * *

* * * * *

[FR Doc. 00-25226 Filed 10-3-00; 8:45 am]

BILLING CODE 6560-50-P